DEPARTMENT OF HOMELAND SECURITY

Transportation Security Administration

[Docket No. TSA-2004-19147]

Intent To Request Renewal From OMB of One Current Public Collection of Information: Flight Training for Aliens and Other Designated Individuals; Security Awareness Training for Flight School Employees

AGENCY: Transportation Security Administration, DHS.

ACTION: 60-day Notice.

SUMMARY: The Transportation Security Administration (TSA) invites public comment on one currently approved Information Collection Request (ICR), Office of Management and Budget (OMB) control number 1652-0021, abstracted below, that we will submit to OMB for renewal in compliance with the Paperwork Reduction Act (PRA). The ICR describes the nature of the information collection and its expected burden. The collection involves gaining information to conduct security threat assessments for all aliens and other designated individuals seeking flight instruction (“candidates”) from Federal Aviation Administration (FAA)-certified flight training providers. Pursuant to statute, TSA will use the information collected to determine whether a candidate poses a threat to aviation or national security, and thus prohibited from receiving flight training. Additionally, flight training providers are required to conduct a security awareness training program for their employees and to maintain records associated with this training.

DATES: Send your comments by May 11, 2015.

ADDRESSES: Comments may be emailed to TSAPRA@dhs.gov or delivered to the TSA PRA Officer, Office of Information Technology (OIT), TSA-11, Transportation Security Administration, 601 South 12th Street Arlington, VA 20598-6011.

FOR FURTHER INFORMATION CONTACT: Christina A. Walsh at the above address, or by telephone (571) 227-2062.

SUPPLEMENTARY INFORMATION:

Comments Invited

In accordance with the Paperwork Reduction Act of 1995 (44 U.S.C. 3501 et seq.), an agency may not conduct or sponsor, and a person is not required to respond to, a collection of information unless it displays a valid OMB control number. The ICR documentation is available at http://www.reginfo.gov. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

OMB Control Number 1652-0021, Flight Training for Aliens and Other Designated Individuals; Security Awareness Training for Flight School Employees, 49 CFR part 1552. Pursuant to section 612 of the Vision 100—Century of Aviation Reauthorization Act (49 U.S.C. 44939), TSA is required to conduct security threat assessments for all aliens and other designated individuals seeking flight instruction with Federal Aviation Administration (FAA)-certified flight training providers. On September 20, 2004, TSA promulgated regulations (49 CFR part 1552) to transfer the program from the Department of Justice to TSA and to make appropriate amendments to determine that candidates do not pose a threat to aviation or national security and thus permitted to receive flight training. The collection of information required under 49 CFR part 1552 includes candidates' biographic information and fingerprints, which TSA uses to perform the security threat assessment. Additionally, flight training providers are required to maintain records of having conducted security awareness training for their employees to increase awareness of suspicious circumstances and activities of individuals enrolling in, or attending, flight training. Each flight training provider employee must receive security awareness training within 60 days of being hired and on an annual recurring basis. The flight training providers must maintain records of the training completed throughout the course of the individual's employment, and for one year after the individual is no longer a flight training provider employee.

Based on the numbers of respondents to date, TSA estimates a total of 39,900 respondents annually: 35,000 candidates and 4,900 flight training providers. Respondents are required to provide the subject information every time an alien or other designated individual applies for pilot training as described in the regulation and subsequent interpretations, which is estimated to be 50,000 responses per year. TSA estimates an average of 45 minutes to complete each application, for a total approximate application burden of 37,500 hours per year. Flight training providers must keep records for each flight training candidate for five years from the time they are created. It is estimated each of the 4,900 flight training providers will carry an annual record keeping burden of 104 hours, for a total of 509,600 hours. Thus, TSA estimates the combined hour burden associated with this collection to be 547,100 hours annually.

Dated: March 4, 2015.
Christina A. Walsh,
TSA Paperwork Reduction Act Officer, Office of Information Technology.

[FR Doc. 2015-05465 Filed 3-9-15; 8:45 am]

BILLING CODE 9110-05-P